DEPARTMENT OF AGRICULTURE

Forest Service

Stanislaus National Forest; California; Stanislaus National Forest Over-Snow Vehicle (OSV) Use Designation Environmental Impact Statement

AGENCY: Forest Service, USDA.

ACTION: Notice of intent to prepare an environmental impact statement.

SUMMARY: The Forest Service, U.S. Department of Agriculture will prepare an Environmental Impact Statement (EIS) on a proposal to designate over-snow vehicle (OSV) use on National Forest System (NFS) roads, NFS trails, and areas on NFS lands within the Stanislaus National Forest; and to identify snow trails for grooming within the Stanislaus National Forest. In addition, the Forest Service is proposing to establish snow depths for OSV use and snow grooming.

DATES: Comments concerning the scope of the analysis must be received by August 10, 2015. The draft environmental impact statement is expected in July 2016, and the final environmental impact statement is expected in April 2017.

ADDRESSES: Send written comments to Phyllis Ashmead, on behalf of Jeanne Higgins, Forest Supervisor, Stanislaus National Forest, 19777 Greenley Road, Sonora, CA 95370. Comments may also be sent via facsimile to 209-533-1890 or submitted on the Stanislaus National Forest OSV Designation Web page: http://www.fs.usda.gov/project/?project=46311

FOR FURTHER INFORMATION CONTACT: Phyllis Ashmead, OSV Team Leader, USDA Forest Service, Stanislaus National Forest, 19777 Greenley Road, Sonora, CA 95370; phone 209-532-6371 ext. 322; email pashmead@fs.fed.us. Hours for personal communication at the Supervisor's Office are between 8:00 a.m. and 4:30 p.m. Pacific Time, Monday through Friday.

Individuals with a hearing or speech disability may dial 711 for Telecommunication Relay Services.

SUPPLEMENTARY INFORMATION:

For over 30 years, the Forest Service, Pacific Southwest Region, in cooperation with the California Department of Parks and Recreation(California State Parks) Off-Highway Motor Vehicle Recreation Division has enhanced winter recreation, and more specifically snowmobiling recreation, by maintaining NFS trails (snow trails) by grooming snow for snowmobile use. Most groomed snow trails are co-located on underlying NFS roads. Some grooming occurs on county roads and closed snow-covered highways. Grooming activities are funded by the state off-highway vehicle trust fund.

The following summarizes current management of OSV use on approximately 900,106 acres of NFS lands in the Stanislaus National Forest:

1. Approximately 58 miles of NFS groomed OSV trails exist(historically the Forest has groomed Highland Lakes Road 5.0 miles, an Alpine County road on the Calaveras Ranger District, these 5.0 miles are not included in this summary);

2. The remainder of the Forest is open for cross country snowmobile use except congressionally designated Wilderness and other special areas. During the development of the 1991 Stanislaus National Forest Land and Resource Management Plan, areas designated as Near Natural were intended to be managed as semi-primitive non-motorized; however, they were never formally closed to OSV use. As a result, some of these areas have been used historically by OSV riders either due to proximity to other areas of use or the type of experience they offer. In some cases user groups have worked through conflict and agreed to subsequent adjustments in locations available for OSV including Round Valley on the Calaveras Ranger District and the Crabtree area near Dodge Ridge on the Summit Ranger District. Both of these areas are managed for quiet winter recreation (both closed to OSV use).Thus, approximately 532,696 acres of NFS lands are open to off-trail, cross-country OSV use. In some areas, user conflicts remain unresolved (Pacific Valley and portions of the Eagle/Night Near Natural Areas);

3. Approximately 367,410 acres of NFS land are closed to OSV use;

4. There are two designated crossings of the Pacific Crest Trail from the Bridgeport Winter Sports Area south of Sonora Pass on the Humboldt-Toiyabe National Forest.

The final Subpart C of the Travel Management Rule went into effect on February 27, 2015. The final rule states: “Over-snow vehicle use on NFS roads, on NFS trails, and in areas on NFS lands shall be designated by the Responsible Official on administrative units or Ranger Districts, or parts of administrative units or Ranger Districts, of the NFS where snowfall is adequate for that use to occur, and, if appropriate, shall be designated by class of vehicle and time of year . . .” (36 CFR 212.81 (a)). Further, under 36 CFR 261.14, it is prohibited to possess or operate an OSV on NFS lands in that administrative unit or Ranger District other than in accordance with those designations. OSV designations made as a result of the analysis in this Environmental Impact Statement would conform to the final Subpart C of the Travel Management Rule.

Purpose and Need for Action

The purpose of this project is twofold: first, to effectively manage OSV use on the Stanislaus National Forest by providing access, ensuring that OSV use occurs when there is adequate snow, promoting the safety of all users, enhancing public enjoyment, minimizing impacts to natural and cultural resources, and minimizing conflicts among the various uses.

Secondly, the project identifies OSV trails where the Forest Service or its contractors would conduct grooming for OSV use. Under the terms of the Settlement Agreement between the Forest Service and Snowlands Network, et al., the Forest Service is required to complete the appropriate NEPA analysis to identify snow trails for grooming on the Stanislaus National Forest.

There is a need to provide a manageable, designated OSV system of trails and areas within the Stanislaus National Forest that is consistent with and achieves the purposes of the Forest Service Travel Management Rule at 36 CFR part 212. This action responds to direction provided by the Forest Service's Travel Management Rule.

The existing system of available OSV trails and areas on the Stanislaus National Forest is the culmination of multiple agency decisions over recent decades. Public OSV use of the majority of this available system continues to be manageable and consistent with current travel management regulations. Exceptions have been identified, based on internal and public input and the criteria for designating roads, trails, and areas listed at 36 CFR 212.55. These include needs to provide improved access for OSV users and enact prohibitions required by the 1991 Stanislaus National Forest Land and Resource Management Plan and other management direction. These exceptions represent additional needs for change, and in these cases, changes are proposed to meet the overall objectives. Adopting some changes would require an amendment to the Forest Plan as identified in the Proposed Action.

The Forest Service has identified areas where OSV use should be prohibited based on management direction in the Forest Plan. The proposed action will prohibit OSV use of these trails and in these areas to be consistent with the Forest Plan. The prohibitions will be implemented through Forest Orders.

The snow trail grooming analysis would also address the need to provide a high quality snowmobile trail system on the Stanislaus National Forest that is smooth and stable for the rider. Groomed trails are designed so the novice rider can use them without difficulty.

Proposed Action

The Forest Service proposes the following:

1. To designate OSV use on NFS roads, NFS trails, and areas on NFS lands within the Stanislaus National Forest where snowfall depth is adequate for that use to occur;

2. To identify 58 miles of designated OSV trails that would be groomed on the Stanislaus National Forest. Trail mileages are estimates only;

3. To work with Tuolumne and Alpine Counties to groom Clark's Fork Road (9 miles) and Highland Lakes Road (5 miles) as part of this Proposed Action. These actions will require agreements between the Stanislaus National Forest, Tuolumne and Alpine Counties (historically, the Forest has groomed Highland Lakes Road 5.0 miles, an Alpine County road, on the Calaveras Ranger District.). This mileage is not included in the Proposed Action;

4. To designate 98 miles of un-groomed OSV routes;

5. To designate 141,073 acres for open OSV riding;

6. To groom trails when there is 12 to 18 inches of snow, following California State Parks Off-Highway Motor Vehicle Recreation (OHMVR) Division snow depth grooming standards;

7. To implement a Forest-wide snow depth requirement for OSV use that would provide for public safety and natural and cultural resource protection by allowing off-trail, cross-country OSV use in designated areas when there is a minimum of 12 inches of continuous and supportable snow covering the landscape at 5,000 feet in elevation and above. When the snow-depth requirement is not met, OSV use would be prohibited. Stanislaus Meadow on the Calaveras RD will require a minimum depth of 24 inches, measured at the meadow.

8. To amend the Forest Plan to allow winter OSV use in the Pacific Valley and portions of the Eagle Night Near Natural areas.¹ Historical OSV use was identified during public meetings.

¹ Near Natural Management is described in the Forest Plan as: Emphasis is placed on providing a natural landscape in a non-motorized setting. Public motorized use is not normally allowed and no timber harvest is scheduled. Wildlife habitat management, watershed projection, dispersed, non-motorized recreation, livestock grazing and minerals uses are allowed. The area is characterized by a high quality visual setting where changes are rarely evident. Land altering practices are limited in scope and duration. It meets the Forest Service criteria for the Recreation Opportunity Spectrum class of Semi-primitive Non-motorized.

Pacific Valley Near Natural Area. This area is located in the northeast part of the Forest on the Calaveras Ranger District. The area is characterized by mountain-peaks, glaciated valleys, scattered timber and considerable granite rock. It borders the Carson-Iceberg Wilderness. Pacific Valley Near Natural Area encompasses 8,578 acres.

Eagle/Night Near Natural Area. This area is located in the east central part of the Forest on the Summit Ranger District. The area is characterized by bare volcanic ridges and rock outcrops, scattered timber, and small sub-alpine meadows. It borders the Emigrant Wilderness. Portions of Eagle/Night Near Natural are proposed for over snow use, including Long Valley, Eagle Meadow and Sonora Pass. The portion of the area proposed for over snow vehicle use in the Eagle/Night Near Natural Area is 5,045 acres.

Near Natural Over-Snow Forest Plan Amendment
Practice | Existing S&G | Amendment | Area | acres
Forestwide S&Gs:
ROS Semi-primitive Non-motorized [10-B-2] (USDA 2010, p. 53) | Motorized use is normally prohibited, except for: 4N80Y; 5N02R (NMFPA). | Motorized use is normally prohibited, except for: 4N80Y; 5N02R (NMFPA); and, the Pacific Valley and Eagle/Night over-snow use areas. | Pacific Valley Eagle/Night | 8,578 5,045
Closed Motor Vehicle Travel Management [10-G-1a] (USDA 2010, p. 53) | Closed to motorized use except for: 4N80Y; 5N02R (NMFPA). | Closed to motorized use except for: 4N80Y; 5N02R (NMFPA); and, the Pacific Valley and Eagle/Night over-snow use areas.
Restricted Motor Vehicle Management [10-G-2, C1a] (USDA 2010, p. 58) | Prohibit motorized use and close motorized routes in non-motorized areas, except for: 4N80Y; 5N02R (NMFPA). | Prohibit motorized use and close motorized routes in non-motorized areas, except for: 4N80Y; 5N02R (NMFPA); and, the Pacific Valley and Eagle/Night over-snow use areas.
Near Natural:
ROS Semi-primitive Non-motorized [10-B-2] (USDA 2010, p. 121) | Manage to the ROS Class of Semi-primitive Non-motorized. | Manage to the ROS Class of Semi-primitive Non-motorized, except for the Pacific Valley and Eagle/Night over-snow use areas.
Closed Motor Vehicle Travel Management [10-G-1] (USDA 2010, p. 121) | Manage to Forestwide S&Gs for Closed Motor Vehicle Travel Management. | Manage to Forestwide S&Gs for Closed Motor Vehicle Travel Management, except for the Pacific Valley and Eagle/Night over-snow use areas.
Total |  |  |  | 13,623
NMFPA = Non-Motorized Forest Plan Amendment (USDA 2009. Motorized Travel Management Record of Decision. Stanislaus National Forest, Sonora, CA. November 2009).
USDA 2010. Forest Plan Direction. Forest Service, Stanislaus National Forest, Sonora, CA. April 2010.

OSV use inconsistent with these designations would be prohibited under 36 CFR part 261 once the decision is issued and OSV use maps are made available to the public. The use designations resulting from this analysis would only apply to the use of OSVs. An OSV is defined in the Forest Service's Travel Management Regulations as “a motor vehicle that is designed for use over snow and that runs on a track or tracks and/or a ski or skis, while in use over snow” (36 CFR 212.1).

Limited administrative use by the Forest Service; use of any fire, military, emergency, or law enforcement vehicle for emergency purposes; authorized use of any combat or combat support vehicle for national defense purposes; law enforcement response to violations of law, including pursuit; and OSV use that is specifically authorized under a written authorization issued under Federal law or regulations would be exempt from these designations (36 CFR 212.81(a)).

These actions would begin immediately upon the issuance of the record of decision, which is expected in August of 2017. The Forest Service would produce an OSV use map that would resemble the existing motor vehicle use map for the Stanislaus National Forest. Such a map would allow the public to identify the routes and areas where OSV use would be allowed on the Stanislaus National Forest.

Responsible Official

The Stanislaus National Forest Supervisor will issue the decision.

Nature of Decision To Be Made

This decision will designate OSV use on NFS roads, on NFS trails, and in areas on NFS lands in the Stanislaus National Forest where snowfall is adequate for that use to occur. It will also identify the NFS trails available for snow grooming. The decision would only apply to the use of OSVs as defined in the Forest Service's Travel Management Regulations (36 CFR 212.1). The Forest Supervisor will consider all reasonable alternatives and decide whether to continue current management of OSV uses on the Stanislaus National Forest, implement the proposed action, or select an alternative for the management of OSV use.

Scoping Process

This notice of intent initiates the scoping process, which guides the development of the environmental impact statement.

Open houses will be held in Pinecrest, Sonora, Hathaway Pines and Bear Valley for interested parties to hear an overview of the Proposed Action and ask questions. A separate stakeholder workshop is also being planned. Notification of open house and workshop dates will be announced through press releases, emails and posted on the Web site: http://www.fs.usda.gov/project/?project=46311.

It is important that reviewers provide their comments at such times and in such manner that they are useful to the agency's preparation of the environmental impact statement. Written comments should be within the scope of the proposed action, have a direct relationship to the proposed action, and must include supporting reasons for the responsible official to consider. Therefore, comments should be provided prior to the close of the comment period and should clearly articulate the reviewer's concerns and contentions. The preferred format for attachments to electronically submitted comments would be as an MS Word document. Attachments in portable document format (pdf) are not preferred, but are acceptable.

Comments received in response to this solicitation, including names and addresses of those who comment, will be part of the public record for this proposed action. Comments submitted anonymously will be accepted and considered, however.

The Stanislaus National Forest OSV Use Designation Project is an activity implementing a land management plan. It is not an activity authorized under the Healthy Forests Restoration Act of 2003 (Pub. L. 108-148). Therefore, this activity is subject to pre-decisional administrative review consistent with the Consolidated Appropriations Act of 2012 (Pub. L. 112-74) as implemented by Subparts A and B of 36 CFR part 218. Certain portions of the proposed action would amend the Forest Plan. These actions are subject to pre-decisional administrative review, pursuant to Subpart B of the Planning Rule (36 CFR part 219).

Dated: June 22, 2015.
Scott Tangenberg,
Acting Forest Supervisor.

[FR Doc. 2015-15724 Filed 6-25-15; 8:45 am]

BILLING CODE 3410-11-P